DEPARTMENT OF COMMERCE

National Oceanic and Atmospheric Administration

Agency Information Collection Activities; Submission to the Office of Management and Budget (OMB) for Review and Approval; Comment Request; Resident Perceptions of Offshore Wind Energy Development Off the Oregon Coast

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 2, 2022.

ADDRESSES: Interested persons are invited to submit written comments to Adrienne Thomas, NOAA PRA Officer, at NOAA.PRA@noaa.gov. Please reference OMB Control Number 0648-0744 in the subject line of your comments. Do not submit Confidential Business Information or otherwise sensitive or protected information.

FOR FURTHER INFORMATION CONTACT: Requests for additional information or specific questions related to collection activities should be directed to Sarah Gonyo, Economist, 1305 East-West Hwy, SSMC 4, Room 9320, Silver Spring MD 2091, 240-621-1999, sarah.gonyo@noaa.gov.

SUPPLEMENTARY INFORMATION:

I. Abstract

Pursuant to E.O. 14057 (Executive Order on Catalyzing Clean Energy Industries and Jobs Through Federal Sustainability), the Outer Continental Shelf Land Act, the National Environmental Policy Act, and the Coastal Zone Management Act, this request is for a reinstatement of an information collection with change. This information collection will focus on a different geographical location (the coast of Oregon) and include focus groups, which will help guide any revisions necessary to the survey instrument.

The BOEM Pacific OCS Region has an active Renewable Energy Program and is currently processing wind and wave energy lease requests. Due to the relatively steep continental slope and deep water off the West Coast, different types of offshore renewable energy technologies have been proposed for the Pacific Region than for the Atlantic Region. Outside of official public engagement forums, preferences about offshore wind energy development generally remain unknown for members of the public, as well as for groups who may not perceive themselves as stakeholders. Failure to gain the perspective of communities regarding potential benefits or impacts is problematic, particularly when latent stakeholders to local projects emerge late in the planning process.

The National Ocean Service (NOS) proposes to collect data on the opinions, values, and attitudes of Oregon Coast residents relative to offshore wind energy development. Respondents (age 18 years and older) will be randomly sampled from households in seven coastal counties. This information will be used by BOEM, NOAA, and others to understand what is important to communities; understand how differing values and perceptions across communities influence local receptivity to proposed development; and improve communication efforts targeted to residents, enabling agencies to more effectively and efficiently direct outreach and community inclusion activities. Additionally, NOAA has a vested interest in offshore wind energy development, from many perspectives, including as it relates to the resilience, well-being, and sustainability of coastal communities.

II. Method of Collection

Information will be collected with a combination of mail recruitment with push-to-web and mail-back survey instrument.

III. Data

OMB Control Number: 0648-0744.

Form Number(s): None.

Type of Review: Regular (Reinstatement with change).

Affected Public: Individuals or households.

Estimated Number of Respondents: Focus groups: 48; Questionnaire: 4,500.

Estimated Time per Response: Focus groups: 1 hour; Questionnaire: 20 minutes.

Estimated Total Annual Burden Hours: 1,548.

Estimated Total Annual Cost to Public: $0.

Respondent's Obligation: Voluntary.

Legal Authority: NOAA's Programmatic Authority—Integrated Coastal and Ocean Observation System Act (33 U.S.C. 3601 et seq.); BOEM's Programmatic Authority—Outer Continental Shelf Lands Act (43 U.S.C. 1346).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-21357 Filed 9-30-22; 8:45 am]

BILLING CODE 3510-JE-P